DEPARTMENT OF TRANSPORTATION

Federal Aviation Administration

RTCA Special Committee 201: Aeronautical Operational Control (AOC) Message Hazard Mitigation (AMHM)

AGENCY: Federal Aviation Administration (FAA), DOT.

ACTION: Notice of RTCA Special Committee 201 meeting.

SUMMARY: The FAA is issuing this notice to advise the public of a meeting of RTCA Special Committee 201: Aeronautical Operational Control.

DATES: The meeting will be held on November 19-21, 2002 from 9 a.m. to 5 p.m.

ADDRESSES: The meeting will be held at Boeing Company, Boeing Field, Bldg. 2-122, Seattle, Washington.

FOR FURTHER INFORMATION CONTACT: (1) RTCA Secretariat, 1828 L Street, NW., Suite 805, Washington, DC 20036-5133; telephone (202) 833-9339; fax (202) 833-9434; Web site http://www.rtca,org, (2) Boeing Company, Rich Rawls, Richard.c.rawls@boeing.com.

SUPPLEMENTARY INFORMATION: Pursuant to section 10(a)(2) of the Federal Advisory Committee Act (Pub. L. 92-463, 5 U.S.C., Appendix 2), notice is hereby given for a Special Committee 201 meeting. NOTE: Name and citizenship information for attendees must be e-mailed to the Boeing POC. The agenda will include:

• November 19:

• Opening Session (Welcome, Introductory and Administrative Remarks, Review Federal Advisory Committee Act and RTCA Procedures, Review Agenda, Background)

• Review Terms of Reference per the August 27 RTCA Program Management Committee

• Identify Existing Aeronautical Operational Control messages under consideration

• Review proposed Phase I document outline

• Collect input from airlines on current procedures for verifying weight and balance and takeoff data after it reaches the cockpit

• Draft other sections of Phase I Document

• Closing Session (Other Business, Date and Place of Next Meeting, Closing Remarks, Adjourn)

Note: This agenda will be followed as appropriate over the course of 3 days.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 22, 2002.
Janice L. Peters,
FAA Special Assistant, RTCA Advisory Committee.

[FR Doc. 02-27732 Filed 10-30-02; 8:45 am]

BILLING CODE 4910-13-M